FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[August 1, 2020 thru August 31, 2020]
08/03/2020
20200299 | G | London Stock Exchange Group plc; Blackstone Capital Partners (Cayman) VII L.P.; London Stock Exchange Group plc.
08/04/2020
20200298 | G | Blackstone Capital Partners (Cayman) VII L.P.; London Stock Exchange Group plc; Blackstone Capital Partners (Cayman) VII L.P.
20201260 | G | Spartan Energy Acquisition Corp.; Dr. Geeta Gupta and Henrik Fisker; Spartan Energy Acquisition Corp.
20201261 | G | Graf Industrial Corp.; David Hall; Graf Industrial Corp.
20201263 | G | Churchill Capital Corp III; Polaris Investment Holdings, L.P.; Churchill Capital Corp III.
20201266 | G | Madison Dearborn Capital Partners VIII-A, L.P.; Benefytt Technologies, Inc.; Madison Dearborn Capital Partners VIII-A, L.P.
20201269 | G | 2019 HS TopCo, LP; GlobalSCAPE, Inc.; 2019 HS TopCo, LP.
20201270 | G | KKR Management LLP; Global Atlantic Financial Group; KKR Management LLP.
20201271 | G | Westport Acquisition Parent LP; TPG Partners VII, L.P.; Westport Acquisition Parent LP.
20201272 | G | Berkshire Fund IX, L.P.; Gregory A. Glassman; Berkshire Fund IX, L.P.
20201273 | G | Stichting Administratiekantoor Westend; Meow Wolf, Inc.; Stichting Administratiekantoor Westend.
20201275 | G | Hewlett Packard Enterprise Company; Silver Peak Systems, Inc.; Hewlett Packard Enterprise Company.
20201279 | G | KPS Special Situations Fund V, L.P.; Briggs & Stratton Corporation; KPS Special Situations Fund V, L.P.
20201280 | G | TCW Direct Lending, LLC; School Specialty, Inc.; TCW Direct Lending, LLC.
20201283 | G | Mr. Troy Taylor and Mrs. LaVonda Taylor; Mr. James M. Groover; Mr. Troy Taylor and Mrs. LaVonda Taylor.
08/05/2020
20201265 | G | Orlando Health, Inc.; Community Health Systems, Inc.; Orlando Health, Inc.
08/11/2020
20201278 | G | EQT IX (No. 1) EUR SCSp; EQT VII (No. 1) LP; EQT IX (No. 1) EUR SCSp.
20201284 | G | Generation IM Sustainable Solutions Fund III (B), L.P.; Remitly Global, Inc.; Generation IM Sustainable Solutions Fund III (B), L.P.
20201292 | G | Leviton Manufacturing Co., Inc.; Nexans S.A.; Leviton Manufacturing Co., Inc.
20201293 | G | Alliant Holdings, L.P.; Milton M. Kleinberg and Marsha A. Kleinberg; Alliant Holdings, L.P.
20201295 | G | Telus Corporation; STG V-A, L.P.; Telus Corporation.
20201297 | G | Roark Capital Partners V (T) LP; Mr. Gary Mitchell; Roark Capital Partners V (T) LP.
20201298 | G | Fortress Acquisition Sponsor LLC; JHL Capital Group Fund LLC; Fortress Acquisition Sponsor LLC.
20201303 | G | Wind Point Partners IX-A, L.P.; James M. Jacobsen Family Trust; Wind Point Partners IX-A, L.P.
20201304 | G | Wind Point Partners IX-A, L.P.; John A. Jacobsen Family Trust; Wind Point Partners IX-A, L.P.
08/12/2020
20201306 | G | Thoma Bravo Discover Fund II, L.P.; Majesco Limited; Thoma Bravo Discover Fund II, L.P.
20201309 | G | KKR Energy Income and Growth Fund I L.P.; Liberty Mutual Holding Company Inc.; KKR Energy Income and Growth Fund I L.P.
20201310 | G | Spectacle BidCo LP; TPG VII CDS Holdings, L.P.; Spectacle BidCo LP.
20201311 | G | Stanley C. Middleman; Joseph C. Lewis; Stanley C. Middleman.
20201313 | G | Cognizant Technology Solutions Corporation; BSI Platform Holdings, LLC; Cognizant Technology Solutions Corporation.
20201314 | G | KPS Special Situations Fund V, LP; Ronald O. Perelman; KPS Special Situations Fund V, LP.
20201315 | G | Atlas Capital Resources III LP; Exide Holdings, Inc.; Atlas Capital Resources III LP.
20201316 | G | Thoma Bravo Explore Fund, L.P.; Frederick J. Ode; Thoma Bravo Explore Fund, L.P.
08/14/2020
20201175 | G | Patrick G. Ryan and Shirley W. Ryan; Nicholas D. Cortezi; Patrick G. Ryan and Shirley W. Ryan.
20201317 | G | Authentic Brands Group LLC; Brooks Brothers Group, Inc.; Authentic Brands Group LLC.
20201318 | G | Simon Property Group, Inc.; Brooks Brothers Group, Inc.; Simon Property Group, Inc.
08/20/2020
20201312 | G | Chevron Corporation; Noble Energy, Inc.; Chevron Corporation.
20201320 | G | NRG Energy, Inc.; Public Service Enterprise Group Inc.; NRG Energy, Inc.
20201321 | G | NRG Energy, Inc.; Citigroup Inc.; NRG Energy, Inc.
20201322 | G | NewAge, Inc.; Ariix, LLC; NewAge, Inc.
20201326 | G | Landcadia Holdings II, Inc.; Tilman J. Fertitta; Landcadia Holdings II, Inc.
20201327 | G | ARYA Sciences Acquisition Corp II; Bain Capital Fund XII, L.P.; ARYA Sciences Acquisition Corp II.
20201330 | G | SIJ Holdings, LLC; The McClatchy Company; SIJ Holdings, LLC.
20201333 | G | GI Partners Fund V L.P.; NovaQuest Private Equity Fund I, L.P.; GI Partners Fund V L.P.
20201336 | G | Clayton Dubilier & Rice Fund X, L.P.; Cheney Bros., Inc. Shares Trust; Clayton Dubilier & Rice Fund X, L.P.
08/21/2020
20201337 | G | Jane Hsiao, Ph.D., MBA; OPKO Health, Inc.; Jane Hsiao, Ph.D., MBA.
20201338 | G | New Mountain Partners V, L.P.; Jarrow Rogovin; New Mountain Partners V, L.P.
20201346 | G | Michael J. Sheridan; DocuSign, Inc.; Michael J. Sheridan.
20201347 | G | Madison Dearborn Capital Partners VIII-A, L.P.; IPL Plastics Inc.; Madison Dearborn Capital Partners VIII-A, L.P.
20201348 | G | Crestview Partners IV, L.P.; Viad Corp; Crestview Partners IV, L.P.
08/24/2020
20201287 | G | GreenPoint Ag, LLC; Land O'Lakes, Inc.; GreenPoint Ag, LLC.
20201288 | G | GreenPoint Ag, LLC; Alabama Farmers Cooperative, Inc.; GreenPoint Ag, LLC.
20201289 | G | GreenPoint Ag, LLC; Tennessee Farmers Cooperative; GreenPoint Ag, LLC.
20201325 | G | Coliseum Capital Partners, L.P.; Purple Innovation, Inc.; Coliseum Capital Partners, L.P.
08/25/2020
20200503 | S | Arko Holdings Ltd.; Empire Petroleum Partners, LLC; Arko Holdings Ltd.
08/26/2020
20201351 | G | TCV X, L.P.; Luminate Capital Fund I, L.P.; TCV X, L.P.
20201355 | G | Bruin Purchaser LLC; Bruin E&P Partners, LLC; Bruin Purchaser LLC.
20201356 | G | Aspen Cayman Holdings LLC; Revionics, Inc.; Aspen Cayman Holdings LLC.
20201360 | G | Healthcare Merger Corp.; Warburg Pincus Private Equity XI, L.P.; Healthcare Merger Corp.
20201362 | G | Corsair V Financial Services Capital Partners, L.P.; World Fuel Services Corporation; Corsair V Financial Services Capital Partners, L.P.
20201363 | G | FinTech Acquisition Corp. III Parent Corp.; GTCR Fund XI/B LP; FinTech Acquisition Corp. III Parent Corp.
20201364 | G | Edgewell Personal Care Company; Cremo Holding Company, LLC; Edgewell Personal Care Company.
20201367 | G | PropTech Acquisition Corporation; Porch.com, Inc.; PropTech Acquisition Corporation.
20201371 | G | TA XIII-A, L.P.; Snowbird Investment Holdings, L.P.; TA XIII-A, L.P.
20201372 | G | General Atlantic Partners (Bermuda) IV, L.P.; Benjamin Francis; General Atlantic Partners (Bermuda) IV, L.P.
20201375 | G | Ophir Sternberg; John Rosatti; Ophir Sternberg.
20201376 | G | QR Master Holdings USA I LP; Tom Scott; QR Master Holdings USA I LP.
20201378 | G | Roper Technologies, Inc.; Project Viking Holdings, Inc.; Roper Technologies, Inc.
20201381 | G | Phillip Frost, M.D.; OPKO Health, Inc.; Phillip Frost, M.D.
20201383 | G | Levine Leichtman Capital Partners VI, L.P.; Tropical Smoothie Cafe Holdings, LLC; Levine Leichtman Capital Partners VI, L.P.
20201390 | G | Derby TopCo Partnership LP; Francisco Partners III (Cayman), L.P.; Derby TopCo Partnership LP.
08/27/2020
20201328 | G | Merck & Co., Inc.; Lumos Pharma, Inc.; Merck & Co., Inc.
08/31/2020
20201365 | G | Ellie Mae Parent, LP; Intercontinental Exchange, Inc.; Ellie Mae Parent, LP.
20201366 | G | Intercontinental Exchange, Inc.; Ellie Mae Parent, LP; Intercontinental Exchange, Inc.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-22942 Filed 10-15-20; 8:45 am]

BILLING CODE 6750-01-P